DEPARTMENT OF HOMELAND SECURITY

[Docket No. DHS-2018-0016]

Homeland Security Science and Technology Advisory Committee

AGENCY: Science and Technology Directorate, DHS.

ACTION: Committee management; notice of open Federal Advisory Committee meeting.

SUMMARY: The Homeland Security Science and Technology Advisory Committee (HSSTAC) will meet in-person and via webinar on Thursday, April 12, 2018. The meeting will be open to the public.

DATES: The HSSTAC meeting will take place Thursday, April 12, 2018 from 9:30 a.m. to 5:30 p.m.

The meeting may close early if the committee has completed its business.

Due to security requirements, screening pre-registration is required for this event. Please see the REGISTRATION section below.

ADDRESSES: 1120 Vermont Ave. NW, 5th Floor, Washington, DC 20005.

FOR FURTHER INFORMATION CONTACT: Michel Kareis, HSSTAC Designated Federal Official, S&T Interagency Office (IAO), STOP 0205, Department of Homeland Security, 245 Murray Lane, Washington, DC 20528-0205, 202-254-8778 (Office), 202-254-6176 (Fax), hsstac@hq.dhs.gov (Email).

SUPPLEMENTARY INFORMATION:

I. Background

Notice of this meeting is given under the Federal Advisory Committee Act (FACA), 5 U.S.C. Appendix (Pub. L. 92-463). The committee addresses areas of interest and importance to the Under Secretary for Science and Technology (S&T), such as new developments in systems engineering, cyber-security, knowledge management and how best to leverage related technologies funded by other Federal agencies and by the private sector. It also advises the Under Secretary on policies, management processes, and organizational constructs as needed.

II. Registration

If you plan to attend the meeting in-person, you must RSVP by April 10, 2018. To register, email Hsstac@hq.dhs.gov with the following subject line: “RSVP to HSSTAC Meeting.” The email should include the name(s), title, organization/affiliation, email address, and telephone number of those interested in attending.

To pre-register for the webinar, please send an email to hsstac@hq.dhs.gov with the following subject line: “RSVP to HSSTAC Meeting.” The email should include the name(s), title, organization/affiliation, email address, and telephone number of those interested in attending. You must RSVP by April 11, 2018.

For information on services for individuals with disabilities or to request special assistance at the meeting, please contact Michel Kareis as soon as possible listed above in the FOR FURTHER INFORMATION CONTACT section.

III. Public Comment

At the end of the open session, there will be a period for oral statements. Please note that the comments period may end before the time indicated, following the last call for oral statements. To register as a speaker, contact the person listed in the FOR FURTHER INFORMATION CONTACT section.

To facilitate public participation, we invite public comment on the issues to be considered by the committee as listed in the Agenda below. Anyone is permitted to submit comments at any time, including orally at the meeting. However, those who would like their comments reviewed by committee members prior to the meeting must submit them in written form no later than April 9, 2018. Please include the docket number (DHS-2018-0016) and submit via one of the following methods:

• Federal eRulemaking Portal: http://www.regulations.gov. Follow the instructions for submitting comments.

• Email: hsstac@hq.dhs.gov. Include the docket number in the subject line of the message.

• Fax: 202-254-6176.

• Mail: Michel Kareis, HSSTAC Designated Federal Official, S&T IAO, STOP 0205, Department of Homeland Security, 245 Murray Lane, Washington, DC 20528-0205.

Instructions: All submissions received must include the words “Department of Homeland Security” and docket number DHS-2018-0016. Comments received will be posted without alteration at http://www.regulations.gov.

Docket: For access to the docket to read the background documents or comments received by the HSSTAC, go to http://www.regulations.gov and enter the docket number into the search function: DHS-2018-0016.

Agenda: The session will begin with remarks from the Designated Federal Official, Michel Kareis, and the Committee Chair, Dr. Vincent Chan. Next, the Senior Official Performing the Duties of the Under Secretary for Science and Technology (SOPDUSST) will provide an overview of his priorities, including the S&T revitalization plan, the DHS Leadership Year and a discussion on proposed HSSTAC tasking.

The afternoon session will begin with DHS S&T highlights and subcommittee updates. Information will be provided by the Social Media Working Group for Emergency Services and Disaster Management Subcommittee (SMWGEDSC), Quadrennial Homeland Security Review Subcommittee, and Systems Engineering Authority Subcommittee. In addition, a new subcommittee on Technology Scouting and Technology Forecasting will be announced.

There will be a discussion on new topics for the SMWGDSC, including future technology and shifts in trends. The final session of the day will be on Technology Scouting and Forecasting.

A public comment period will be held at the end of the open session.

Dated: March 26, 2018.
Denis Gusty,
Alternate Designated Federal Official for the HSSTAC.

[FR Doc. 2018-06388 Filed 3-28-18; 8:45 am]

BILLING CODE 9110-9F-P